ENVIRONMENTAL PROTECTION AGENCY

[FRL-7943-2]

National Drinking Water Advisory Council Request for Nominations for the Working Group on Public Education Requirements of the Lead and Copper Rule

AGENCY: Environmental Protection Agency.

ACTION: Notice.

SUMMARY: The U.S. Environmental Protection Agency (EPA or Agency) is announcing the formation of a Working Group of the National Drinking Water Advisory Council on the Public Education Requirements of the Lead and Copper Rule (WGPE) and soliciting all interested persons to nominate qualified individuals to serve a one-year term. Any interested person or organization may nominate qualified individuals for membership on the working group.

Background: The Lead and Copper Rule requires systems that exceed the action level to complete a number of steps, which include delivering public education to alert the public of the problem and provide information on steps customers can take to reduce their risk. In order to ensure “at risk populations” are receiving the necessary information to protect themselves from exposure to lead, EPA is reviewing the public education requirements of the Lead and Copper Rule. EPA believes that public information is an important component of drinking water protection because it allows consumers to make informed public health decisions.

The National Drinking Water Advisory Council (NDWAC), established under the Safe Drinking Water Act, as amended (42 U.S.C. 300f et seq.), provides practical and independent advice, consultation, and recommendations to the Agency on the activities, functions, and policies related to the implementation of the Safe Drinking Water Act. On June 1, 2005, the NDWAC voted on and approved the formation of a Working Group (WGPE) to provide recommendations on the Public Education Requirements of the Lead and Copper Rule. After WGPE completes their charge, they will make recommendations to the full NDWAC. The full NDWAC will, in turn, make appropriate recommendations to EPA. For a general description of the WGPE charge, the criteria for selecting WGPE members, and the specific directions for submitting WGPE member nominations, please see the SUPPLEMENTARY INFORMATION section.

DATES: Submit nominations via U.S. mail on or before August 22, 2005.

ADDRESSES: Address all nominations to Elizabeth McDermott, Designated Federal Officer, National Drinking Water Advisory Council Working Group on Public Education, U.S. Environmental Protection Agency, Office of Ground Water and Drinking Water, Drinking Water Protection Division (Mail Code 4606M), 1200 Pennsylvania Avenue, NW., Washington, DC 20460.

FOR FURTHER INFORMATION CONTACT: E-mail your questions to Elizabeth McDermott, Designated Federal Officer, at mcdermott.elizabeth@epa.gov, or call (202) 564-1603.

SUPPLEMENTARY INFORMATION: Working Group Charge: The charge for the Working Group on the Public Education Requirements of the Lead and Copper Rule (WGPE) is to (1) review the current public education requirements to find and define the need for improvements and make recommendations to the full NDWAC accordingly; (2) develop language for communicating the risk and a suggested response to the public; and (3) define the delivery means to the public. The NDWAC established a target date of May 2006 to complete these tasks.

Selection Criteria: The criteria for selecting WGPE members are as follows: the members are recognized experts in their fields; the members are as impartial and objective as possible; the members collectively represent an array of backgrounds and perspectives within the water sector and related disciplines (e.g., public health); and the members are available to fully participate in the WGPE. The schedule remains flexible, however, it is estimated that the first WGPE meeting will be convened in the Fall of 2005, and subsequent meetings will be conducted over a relatively short time frame of approximately one (1) year. Over the course of this period, WGPE members will be asked to attend a maximum of four (4) in-person meetings, participate in conference calls and video conferencing as necessary, participate in the discussion of key issues at all meetings, and review and finalize the products and outputs of the WGPE. The EPA is looking to create a diverse working group. Potential nominations could include individuals from the drinking water industries, stakeholder organizations, state and local officials, public health officials, environmental organizations, and risk communication experts. The Agency is looking for a range of industry representation in terms of the size of the population served, as well as investor and publicly owned and operated facilities. This is not an exhaustive list; it is only intended to provide a framework to consider potential nominees.

Nomination of a Member: Any interested person or organization may nominate qualified individuals for membership to the WGPE. Name, occupation, position, address, and telephone number should identify all nominees. To be considered, all nominations must include a current resume providing the nominee's background, experience, and qualifications, in addition to a statement (not to exceed two (2) paragraphs) about their particular expertise and interest in the public education requirements of the Lead and Copper Rule. Please note that the Agency will not formally acknowledge or respond to nominations.

Dated: July 18, 2005.
Cynthia C. Dougherty,
Director, Office of Ground Water and Drinking Water.

[FR Doc. 05-14536 Filed 7-21-05; 8:45 am]

BILLING CODE 6560-50-P